ENVIRONMENTAL PROTECTION AGENCY

[FRL-8717-8]

Proposed CERCLA Administrative Cost Recovery Settlement; Amber Oil Site, Milwaukee, WI, U.S. EPA Region 5 CERCLA Docket No. V-W-'08-C-911

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement, In the Matter of: Amber Oil Site; 1016 N. Hawley Road; Milwaukee, Wisconsin, Agreement for Payment of Past Response Costs, U.S. EPA Region 5 CERCLA Docket No. V-W-'08-C-911. This proposed settlement agreement for payment of U.S. EPA's past response costs includes a compromise of some past response costs incurred by U.S. EPA in connection with the Amber Oil site in Milwaukee, Wisconsin. U.S. EPA is entering into the proposed Agreement with the following twenty-three settling parties: AAA Sales & Engineering, Inc.; AD-Tech Industries, Inc.; Metso Paper USA, Inc. (fka Beloit-Manhattan); Black and Decker Corporation; F. Ziegler Enterprises; Galland-Henning-Nopak, Inc.; Intermet Corporation (fka Ganton Technologies); Leggett & Platt, Inc.; MeadWestvaco Corporation (fka Mead Container); Milwaukee Wire Products; Muza Metal Products; Kraft Foods Global, Inc. (fka Oscar Mayer); Pioneer Products, Inc.; Epicor Industries, Inc. (fdba Plews/Edelmann); Brunswick Corporation (fka Roadmaster Corp.); Alliance Laundry Systems, LLC (fka Speed Queen Co.); Toolrite Manufacturing Co., Inc.; U.S. Chrome Performance Coating; Warner Electric; Wisconsin Central Ltd.; Metak Tek Inernational, Inc. (aka Wisconsin Centrifugal); Wisconsin Knife Works; and Wrought Washer Mfg., Inc. The settlement requires the settling parties to reimburse the U.S. EPA Hazardous Substance Superfund $190,000 of U.S. EPA's costs of $194,269 incurred as of January 31, 2008. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The U.S. EPA's response to any comments received will be available for public inspection at the site record repository in the West Allis Public Library, 7421 West Nation Avenue, Milwaukee, Wisconsin, and at the U.S. EPA Record Center, Room 714, U.S. EPA, 77 West Jackson Boulevard, Chicago, Illinois. This is the second consent agreement concerning the Amber Oil Site in Milwaukee. An earlier administrative settlement with 55 different settling parties, In the Matter of Amber Oil Site, U.S. EPA Docket No. V-W-'04-C-780 was finalized in 2004. Pursuant to that Agreement, those other 55 settling parties committed to perform the clean-up of the Amber Oil Site, and pay past, intermediate, and oversight costs as defined in that administrative settlement. Past costs in the amount of $155,591 were compromised under that earlier Agreement in consideration of the 55 settling parties' commitment to perform the removal and pay the costs described above. That $155,591 in compromised costs is part of the $194,269 U.S. EPA sought to recover in February 2008, $190,000 of which these 23 settling represents are committing to pay pursuant to the proposed Amber Oil Site Agreement, U.S. EPA Region 5 Docket No. V-W-'08-C-911, which Agreement is the subject of this notice of solicitation of public comment.

DATES: Comments must be submitted to U.S. EPA on or before 30 days from date of publication of this notice and request for public comment.

ADDRESSES: The proposed settlement is available for public inspection at the U.S. EPA Record Center, Room 714, 77 West Jackson Boulevard, Chicago, Illinois and at the West Allis Public Library, 7421 West Nation Avenue, Milwaukee, Wisconsin. A copy of the proposed settlement may be obtained from U.S. EPA Record Center, Room 714, U.S. EPA, 77 West Jackson Boulevard, Chicago, Illinois or by calling tel. no. (312)-353-5821. Comments should reference the Amber Oil site in Milwaukee, Wisconsin and EPA Region 5 CERCLA Docket No. V-W-'08-C-911 and should be addressed to Mr. Jerome Kujawa, U.S. EPA Office of Regional Counsel (C-14J), 77 West Jackson Boulevard, Chicago, Illinois 60604 or kujawa.jerome@epa.gov.

FOR FURTHER INFORMATION CONTACT: Mr. Jerome Kujawa, U.S. EPA Office of Regional Counsel (C-14J) at 77 West Jackson Boulevard, Chicago, IL 60604 or at tel. no. (312)-886-6731 or via e-mail at kujawa.jerome@epa.gov.

Dated: September 11, 2008.
Richard C. Karl,
Director, Superfund Division, Region 5, U.S. Environmental Protection Agency.

[FR Doc. E8-22228 Filed 9-22-08; 8:45 am]

BILLING CODE 6560-50-P